NUCLEAR REGULATORY COMMISSION

[NRC-2009-0476]

Office of New Reactors; Interim Staff Guidance on Design Reliability Assurance Program; Section 17.4 of the Standard Review Plan for the Review of Safety Analysis Reports for Nuclear Power Plants (NUREG-0800)

AGENCY: Nuclear Regulatory Commission (NRC).

ACTION: Solicitation of public comment.

SUMMARY: The NRC staff is soliciting public comment on its proposed Interim Staff Guidance (ISG) DC/COL-ISG-018 (Agencywide Documents Access and Management System (ADAMS) Accession No. ML092290791). This ISG revises the guidance provided to the staff in Section 17.4, “Reliability Assurance Program” of NUREG-0800, “Standard Review Plan for the Review of Safety Analysis Reports for Nuclear Power Plants,” March 2007 (SRP). This ISG revises the review responsibilities and further clarifies the acceptance criteria and evaluation findings contained in SRP Section 17.4 in support of the NRC reviews of the design certification (DC) and combined license (COL) applications. The NRC staff issues DC/COL-ISGs to facilitate timely implementation of current staff guidance and to facilitate activities associated with review of applications for DCs and COLs by the Office of New Reactors. The NRC staff intends to incorporate the final approved DC/COL-ISG-018 into the next revision of NUREG-0800, SRP Section 17.4 and Regulatory Guide (RG) 1.206, “Combined License Applications for Nuclear Power Plants (LWR Edition),” June 2007.

DATES: Comments must be filed no later than 30 days from the date of publication of this notice in the Federal Register. Comments received after this date will be considered, if it is practical to do so, but the Commission is able to ensure consideration only for comments received on or before this date.

ADDRESSES: You may submit comments by any one of the following methods. Please include Docket ID: NRC-2009-0476 in the subject line of your comments. Comments submitted in writing or in electronic form will be posted on the NRC Web site and on the Federal rulemaking Web site at http://www.Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.Regulations.gov and search for documents filed under Docket ID: NRC-2009-0476. Address questions about NRC dockets to Carol Gallagher at 301-492-3668; e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff by telephone at 1-800-397-4209, 301-415-4737, or by e-mail at pdr.resource@nrc.gov.

FOR FURTHER INFORMATION CONTACT: Mr. Todd A. Hilsmeier, Project Manager, PRA Licensing Operations Support and Maintenance Branch 2, Division of Safety Systems and Risk Assessment, Office of New Reactors, U.S. Nuclear Regulatory Commission, Washington, DC 20555-0001; telephone 301-415-6788 or e-mail at todd.hilsmeier@nrc.gov.

SUPPLEMENTARY INFORMATION: The agency posts its issued staff guidance in the agency external Web page (http://www.nrc.gov/reading-rm/doc-collections/isg/).

The NRC staff is issuing this notice to solicit public comments on proposed DC/COL-ISG-018. After the NRC staff considers any public comments, it will make a determination regarding proposed DC/COL-ISG-018.

Dated at Rockville, Maryland, this 22nd day of October 2009.
For the Nuclear Regulatory Commission.
William F. Burton,
Branch Chief, Rulemaking and Guidance Development Branch, Division of New Reactor Licensing, Office of New Reactors.

[FR Doc. E9-26219 Filed 10-29-09; 8:45 am]

BILLING CODE 7590-01-P